JUDICIAL CONFERENCE OF THE UNITED STATES

Hearing of the Judicial Conference Advisory Committee on Rules of Appellate Procedure; Federal Register Citation of Previous Announcements: 79 FR 48250 and 79 FR 72702.

AGENCY: Judicial Conference of the United States, Advisory Committee on Rules of Appellate Procedure.

ACTION: Revised Notice of Proposed Amendments and Open Hearing.

Please note: The public hearing on the amendments to the Appellate Rules and Forms previously scheduled in Washington, DC for February 17, 2015, was canceled due to weather conditions. That public hearing has been rescheduled for March 6, 2015, at 10:00 a.m. in the Mecham Center of the Thurgood Marshall Federal Judiciary Building, One Columbus Circle NE., Washington, DC 20544.

SUMMARY: The Advisory Committee on Rules of Appellate Procedure has proposed amendments to the following rules and forms:

Appellate Rules 4, 5, 21, 25, 26, 27, 28.1, 29, 32, 35, and 40, and Forms 1, 5, 6, and New Form 7.

Written comments and suggestions with respect to the proposed amendments were accepted from August 15, 2014 through February 17, 2015. In accordance with established procedures, all comments submitted are available for public inspection and can be found along with the text of the proposed rules amendments and the accompanying Committee Notes at the United States Federal Courts' Web site at http://www.uscourts.gov/rulesandpolicies/rules/proposed-amendments.aspx.

FOR FURTHER INFORMATION CONTACT: Rebecca A. Womeldorf, Secretary, Committee on Rules of Practice and Procedure of the Judicial Conference of the United States, Thurgood Marshall Federal Judiciary Building, One Columbus Circle NE., Suite 7-240, Washington, DC 20544, Telephone (202) 502-1820.

Dated: February 25, 2015.
Julie Wilson,
Attorney Advisor, Rules Committee Support.

[FR Doc. 2015-04329 Filed 3-2-15; 8:45 am]

BILLING CODE 2210-55-P